DEPARTMENT OF THE INTERIOR

Central Utah Project Completion Act; Intent To Prepare an Environmental Assessment for the Proposed Realignment of a Portion of the Provo Reach of the Spanish Fork-Provo Reservoir Canal Pipeline

AGENCY: Office of the Assistant Secretary—Water and Science, Department of the Interior.

ACTION: Notice.

SUMMARY: Pursuant to Section 102(2)(c) of the National Environmental Policy Act of 1969, as amended, the Department of the Interior (Interior), the Central Utah Water Conservancy District, and the Utah Reclamation Mitigation and Conservation Commission (Mitigation Commission), as Joint Leads, will prepare an Environmental Assessment of the impacts associated with the proposed realignment of a portion of the Provo Reach of the Spanish Fork-Provo Reservoir Canal Pipeline. This realignment is necessitated in order to avoid active and historic landslides, and reduce risk to the pipeline and associated features from geologic faults.

DATES: Date and location for public scoping will be announced locally.

FOR FURTHER INFORMATION CONTACT: Additional information may be obtained by contacting Mr. Lee Baxter at (801) 379-1174, or by e-mail at lbaxter@uc.usbr.gov.

SUPPLEMENTARY INFORMATION: Under the authority of the Central Utah Project Completion Act (Pub. L. 102-575), the Secretary of the Interior oversees water development activities associated with the Bonneville Unit of the Central Utah Project. The Spanish Fork-Provo Reservoir Canal Pipeline (SFPRCP), a feature of the Utah Lake Drainage Basin Water Delivery System of the Bonneville Unit, was described in the 2004 Final Environmental Impact Statement for the Utah Lake Drainage Basin Water Delivery System. Records of Decision were signed by Interior on December 22, 2004, and by the Mitigation Commission on January 27, 2005, providing for the construction of the Utah Lake Drainage Basin Water Delivery System, including the 19.7 mile long SFPRCP. The Mapleton and Springville Reaches of the SFPRCP, totaling approximately 8.8 miles of the pipeline, are currently under construction. Detailed information developed as part of the Value Engineering process for the Provo Reach of the SFPRCP suggests realignment of a portion of the Provo Reach in order to avoid active and historic landslides, and reduce risk from geologic faults. The purpose of this Environmental Assessment is to analyze and present the anticipated environmental effects of the proposed realignment.

Dated: January 22, 2010.
Reed R. Murray,
Program Director, Central Utah Project Completion Act, Department of the Interior.

[FR Doc. 2010-3855 Filed 2-24-10; 8:45 am]

BILLING CODE 4310-RK-P